DEPARTMENT OF STATE

[Public Notice 4019]

Amendment to Bureau of Educational and Cultural Affairs Request for Proposals: Islamic Life in the United States

SUMMARY: The Office of Citizen Exchanges, Bureau of Educational and Cultural Affairs of the U.S. Department of State announces the addition of Thailand to the Southeast Asian region for which proposals will be accepted.

The Islamic Life in the United States Grants Competition was announced on May 2, 2002 in the Federal Register (67 FR 22149). The deadline for proposals is June 20, 2002.

FOR FURTHER INFORMATION CONTACT: Interested organizations should contact Thomas Johnston, 202/619-5325; E-mail tjohnsto@pd.state.gov.

Dated: May 9, 2002.
Rick A. Ruth,
Principal Deputy Assistant Secretary, Bureau of Educational and Cultural Affairs, Department of State.

[FR Doc. 02-12141 Filed 5-14-02; 8:45 am]

BILLING CODE 4710-05-P